UNIFIED CARRIER REGISTRATION PLAN

Sunshine Act Meeting Notice; Unified Carrier Registration Plan Registration System Subcommittee Meeting

TIME AND DATE: August 20, 2019, from 1:00 p.m. to 4:00 p.m., Mountain daylight time.

PLACE: Fairfield Inn & Suites, 1293 West Broadway, Idaho Falls, ID 83402. This meeting will also be accessible via conference call. Any interested person may call 1-866-210-1669, passcode 5253902#, to listen and participate in the meeting.

STATUS: This meeting will be open to the public.

MATTERS TO BE CONSIDERED: The Unified Carrier Registration Plan Registration System Subcommittee (the “Subcommittee”) will continue its work in developing and implementing the Unified Carrier Registration Plan and Agreement. The subject matter of this meeting will include:

Proposed Agenda

I. Call to Order—Subcommittee Chair

Chair will call the meeting to order.

II. Verification of Meeting Notice—Chief Legal Officer

Chief Legal Officer will verify the publication of meeting notice in the Federal Register.

III. Approval of Minutes From June 3, 2019 Meeting—Subcommittee Chair

Minutes from the June 3, 2019 Registration System Subcommittee meeting will be reviewed and the Subcommittee will consider approval.

IV. Independent State System Transitions—Subcommittee Chair

Chair will report on status of the Missouri Department of Transportation's transition to the UCR National Registration System. The Chair will also report on the status of the ongoing discussions regarding the possibility of the Kansas Corporation Commission transitioning to the UCR National Registration System.

V. Independent State System Interconnection—Subcommittee Chair

For Discussion and Possible Subcommittee Action: Subcommittee will consider and possibly recommend to the Board criteria for interconnecting the remaining independent UCR registration systems (Illinois, Maine, and Kansas) to the National Registration System.

VI. Amendment to UCR Refund Procedure—Subcommittee Chair

For Discussion and Possible Subcommittee Action: Subcommittee will consider and possibly approve a recommendation to the Board amending the UCR refund procedure to require confirmation from permit agents that they are authorized to register their clients for UCR using the National Registration System.

VII. List of Non-Registered Carriers

For Discussion and Possible Subcommittee Action: Subcommittee will consider the development of a policy concerning the periodic public release of those commercial entities eligible for UCR but not registered. Subcommittee will also consider whether to recommend to the Board the adoption of such a policy in an effort to increase UCR compliance.

VIII. Merchant Service Provider—Subcommittee Chair

For Discussion and Possible Subcommittee Action: Subcommittee will consider and possibly approve a recommendation to the Board authorizing and directing the Administrator to contract with a new merchant service provider for improved terms.

IX. Permit Agent Module—Subcommittee Chair

The Chair will lead a discussion on the outstanding issues which must be resolved in order to complete development of a new module specifically designed for use by third-party permit agents to register clients subject to UCR.

X. National Registration System—Seikosoft

• Registrations YTD

Subcommittee will receive an update on total carrier registrations year to date.

• Administrator Tools

Subcommittee will receive an update on the utilization to date of new tools for administrators within the National Registration System, including new functionality for conducting annual carrier audits and soliciting carriers by email.

• Administrator Dashboard

Subcommittee will receive a report on the development of a dashboard for use by state administrators within the National Registration System.

XI. Feedback on Reports Produced by National Registration System—Subcommittee Chair

Chair will open the floor and solicit feedback on potential modifications to the reports currently provided by the National Registration System.

XII. Education & Training Topics—Subcommittee Chair

Chair will open the floor for discussion of potential topics, specific to the National Registration System, to be included in the curriculum for the forthcoming UCR Education & Training Program.

XIII. Other Items—Subcommittee Chair

The Subcommittee Chair will call for any other items the Subcommittee members would like to discuss.

XIV. Adjourn—Subcommittee Chair

Chair will adjourn the meeting.

The agenda will be available no later than 5:00 p.m. Mountain daylight time, August 9, 2019 at: https://plan.ucr.gov.

CONTACT PERSON FOR MORE INFORMATION: Elizabeth Leaman, Acting Chair, Unified Carrier Registration Plan Board of Directors, (617) 305-3783, elizabeth.leaman@state.ma.us.

Alex B. Leath,
Chief Legal Officer, Unified Carrier Registration Plan.

[FR Doc. 2019-17340 Filed 8-8-19; 4:15 pm]

BILLING CODE 4910-YL-P